NATIONAL CREDIT UNION ADMINISTRATION

Notice of Meeting; Sunshine Act

Time and Date: 10 a.m., Thursday, March 17, 2005.

Place: Board Room, 7th Floor, Room 7047, 1775 Duke Street, Alexandria, VA 22314-3428.

Status: Open.

Matters to be Considered: 1. Notice of Proposed Rulemaking: Part 712 of NCUA's Rules and Regulations, Credit Union Service Organizations.

Recess: 10:30 a.m.

Time and Date: 11 a.m., Thursday, March 17, 2005.

Place: Board Room, 7th Floor, Room 7047, 1775 Duke Street, Alexandria, VA 22314-3428.

Status: Closed.

Matters to be Considered: 1. Part 703 of NCUA's Rules and Regulations, Pilot Program Request. Closed pursuant to exemption (4).

FOR FURTHER INFORMATION CONTACT: Mary Rupp, Secretary of the Board, telephone: 703-518-6304.

Hattie Ulan,
Acting Board Secretary.

[FR Doc. 05-5117 Filed 3-10-05; 4:16 pm]

BILLING CODE 7535-01-M